DEPARTMENT OF EDUCATION

[CFDA No. 84.016A]

Office of Postsecondary Education; Undergraduate International Studies and Foreign Language Program; Notice Inviting Applications for New Awards for Fiscal Year (FY) 2003

Purpose of Program: The Undergraduate International Studies and Foreign Language Program provides grants to strengthen and improve undergraduate instruction in international studies and foreign languages.

Eligible Applicants: (1) Institutions of higher education, (2) combinations of institutions of higher education, (3) partnerships between nonprofit educational organizations and institutions of higher education, and (4) public and private non-profit agencies and organizations, including professional and scholarly associations. applications available: September 13, 2002.

Deadline for Transmittal of Applications: November 4, 2002.

Deadline for Intergovernmental Review: January 3, 2003.

Estimated Available Funds: The Administration has requested $4,700,000 for this program for FY 2003. The actual level of funding, if any, depends on final congressional action. However, we are inviting applications to allow enough time to complete the grant process, if Congress appropriates funds for this program.

Estimated Range of Awards: $40,000-$130,000 per year.

Estimated Average Size of Awards: $78,028 per year.

Estimated Number of Awards: 30.

Note: The Department is not bound by any estimates in this notice.

Project Period: Up to 24 months for grants to single institutions of higher education, and up to 36 months for grants to combinations of institutions of higher education and partnerships.

Page Limit: The application narrative is where you, the applicant, address the selection criteria that reviewers use to evaluate your application. You must limit the narrative to the equivalent of no more than 40 pages, using the following standards:

• A “page” is 8.5″ x 11″, on one side only, with 1″ margins at the top, bottom, and both sides.

• Double space (no more than three lines per vertical inch) all text in the application narrative, including titles, headings, footnotes, quotations, references, and captions. However, you may single space all text in charts, tables, figures and graphs.

• Use a font that is either 12-point or larger or no smaller than 10 pitch (characters per inch). However, you may use a 10-point font in charts, tables, figures and graphs.

The page limit does not apply to the cover sheet; the budget section, including the narrative budget justification; the assurances and certifications; or the one-to-two page abstract or the appendices. However, you must include all of the application narrative in responding to the selection criteria.

We will reject your application if—

• You apply these standards and exceed the page limit; or

• You apply other standards and exceed the equivalent of the page limit.

Applicable Regulations: (a) The Education Department General Administrative Regulations (EDGAR) in 34 CFR parts 74, 75, 77, 79, 82, 85, 86, 97, 98 and 99; and (b) the regulations for this program in 34 CFR parts 655 and 658.

Note: The regulations in 34 CFR part 86 apply to institutions of higher education only.

SUPPLEMENTARY INFORMATION: Matching requirement: Under section 604(a)(3) of the Higher Education Act of 1965, as amended (HEA), 20 U.S.C. 1124(a)(3), Undergraduate International Studies and Foreign Language Program grantees must provide matching funds in either of the following ways: (a) cash contributions from private sector corporations or foundations equal to one-third of the total project costs; or (b) a combination of institutional and non-institutional cash or in-kind contributions equal to one-half of the total project costs. The Secretary may waive or reduce the required matching share for institutions that are eligible to receive assistance under part A or part B of title III of the HEA, or under title V of the HEA.

Priorities

Competitive Priority

This competition focuses on projects designed to meet the statutory priority contained in section 604(a)(5) of the HEA (20 U.S.C. 1124(a)(5)). That section gives priority to institutions of higher education or combinations of institutions of higher education that either require entering students to have successfully completed at least two years of secondary school foreign language instruction or require each graduating student to earn two years of postsecondary credit in a foreign language or have demonstrated equivalent competence in the foreign language. It also gives priority to two-year degree granting institutions that offer two years of postsecondary credit in a foreign language. We award five points to an application that meets this priority.

Invitational Priority

We are particularly interested in applications that meet the following invitational priority:

Applications from (1) institutions of higher education, (2) combinations of institutions of higher education, (3) partnerships between nonprofit educational organizations and institutions of higher education, and (4) public and private non-profit agencies and organizations, including professional and scholarly associations of higher education that propose educational projects that include activities focused in the targeted world areas of Central and South Asia, the Middle East, Russia, the Independent States of the former Soviet Union, and Africa. These projects should be integrated into the curricula of the home institutions or organizations.

Under 34 CFR 75.105(c)(1) we do not give an application that meets the invitational priority a competitive or absolute preference over other applications.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of this Application

In FY 2003, the U.S. Department of Education is continuing to expand its pilot project of electronic submission of applications to include additional formula grant programs and additional discretionary grant competitions. The Undergraduate International Studies and Foreign Language Program— CFDA No. 84.016A is one of the programs included in the pilot project. If you are an applicant under the Undergraduate International Studies and Foreign Language Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Undergraduate International Studies and Foreign Language Program at: http://e-grants.ed.gov.

We have included additional information about the e-APPLICATION pilot project (see Parity Guidelines between Paper and Electronic Applications) in the application package.

Note: Please note that due to the Department's end of the fiscal year close out activities, the e-APPLICATION system will be unavailable from October 1 through October 5. It will become available for users again on Monday, October 7.

For Applications and further Information Contact: Christine Corey, Undergraduate International Studies and Foreign Language Program, U.S. Department of Education, International Education and Graduate Programs Service, 1990 K Street, NW., Suite 600, Washington, DC 20006-8521. Telephone: (202) 502-7629 or via Internet: christine.corey@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1124.

Dated: August 26, 2002.
Sally L. Stroup,
Assistant Secretary, Office of Postsecondary Education.

[FR Doc. 02-22275 Filed 8-29-02; 8:45 am]

BILLING CODE 4000-01-P